DEPARTMENT OF LABOR

Employment and Training Administration

[TA-W-54,750]

Stearns Technical, Cincinnati, OH; Notice of Termination of Investigation

Pursuant to section 221 of the Trade Act of 1974, as amended, an investigation was initiated on April 20, 2004, in response to a worker petition which was filed by the UNITE! Union on behalf of workers at Stearns Technical, Cincinnati, Ohio.

The petitioner has requested that the petition be withdrawn. Consequently, the investigation has been terminated.

Signed in Washington, DC, this 19th day of May, 2004.
Richard Church,
Certifying Officer, Division of Trade Adjustment Assistance.

[FR Doc. 04-12635 Filed 6-3-04; 8:45 am]

BILLING CODE 4510-30-P